NATIONAL MEDIATION BOARD

29 CFR Parts 1202 and 1206

[Docket No. C-6964]

RIN 3140-ZA00

Representation Election Procedure

AGENCY: National Mediation Board.

ACTION: Proposed rule; notice of meeting.

SUMMARY: The National Mediation Board (NMB or Board) extends an invitation to interested parties to attend an open meeting with the Board and its staff on December 7, 2009. The Board meeting will be held from 9 a.m. until 4 p.m. The meeting will be held in the Margaret A. Browning Hearing Room (Room 11000), National Labor Relations Board, 1099 14th Street, NW., Washington, DC 20570. During the public meeting, the NMB invites interested persons to share their views on the proposed rule changes regarding representation election procedures.

DATES: The meeting will be held on Monday, December 7, 2009 from 9 a.m. to 4 p.m. A second day of meetings may be scheduled for Tuesday, December 8, 2009 if necessary. Due to time and seating considerations, individuals desiring to attend the meeting, or to make a presentation before the Board, must notify the NMB staff, no later than 4 p.m. on Friday, November 20, 2009.

ADDRESSES: The public meeting will be held in the Margaret A. Browning Hearing Room (Room 11000), National Labor Relations Board, 1099 14th Street, NW., Washington, DC 20570. Requests to attend the meeting must be addressed to Mary Johnson, General Counsel, National Mediation Board, 1301 K Street, NW., Suite 250-East, Washington, DC 20005. Written requests may also be made electronically to legal@nmb.gov. All communications must include Docket No. C-6964.

FOR FURTHER INFORMATION CONTACT: Mary Johnson, General Counsel, National Mediation Board, 202-692-5050, infoline@nmb.gov.

SUPPLEMENTARY INFORMATION: The National Mediation Board will hold an open public meeting on Monday, December 7, 2009, from 9 a.m. until 4 p.m. The purpose of the meeting will be to solicit views of interested persons concerning the proposed rule changes in representation election procedures.

On Tuesday, November 3, 2009, the NMB proposed a Notice of Proposed Rulemaking (NPRM) (74 FR 56750), proposing to amend its Railway Labor Act rules to provide that, in representation disputes, a majority of valid ballots cast will determine the craft or class representative. These rule changes are proposed to be codified at 29 CFR parts 1202 and 1206. In addition to the comment procedure outlined in the NPRM, the NMB is providing another opportunity for interested persons to provide their views to the Board on this important matter.

Individuals desiring to attend the meeting must notify the NMB staff, in writing, at the above listed physical or e-mail address by the deadline posted. If the individual desires to make a presentation to the Board at the meeting, he or she is required to submit a brief outline of the presentation when making the request. In addition, a full written statement must be submitted no later than 4 p.m. on Friday, November 20, 2009. In lieu of making an oral presentation, individuals may submit a written statement for the record.

To attend the meeting, all potential attendees must include in their request: (1) Their full name and (2) organizational affiliation (if any). Attendees are reminded to bring a photo identification card with them to the public meeting in order to gain admittance to the building. Due to the time and potential space limitations in the meeting room, the NMB will notify individuals of their attendance and/or speaking status (i.e., preliminary time for their presentation) prior to the meeting. Time allocation for oral presentations will depend upon the number of individuals who desire to make presentations to the Board. Individuals should be prepared to summarize their written statements at the meeting.

Agenda: The meeting will be limited to issues related to the NMB's proposal regarding proposed rule changes in representation election procedures appearing in the Federal Register on November 3, 2009 at 74 FR 56750-56754. A copy of the NPRM may also be obtained from the NMB's Web site at: http://www.nmb.gov/representation/proposed-rep-rulemaking.html.

Dated: November 3, 2009.
Mary Johnson,
General Counsel, National Mediation Board.

[FR Doc. E9-26833 Filed 11-5-09; 8:45 am]

BILLING CODE 7550-01-P